Proclamation 10762 of May 17, 2024

Armed Forces Day, 2024

By the President of the United States of America

A Proclamation

Our Army, Navy, Air Force, Marine Corps, Space Force, Coast Guard, National Guard, and Reserve Forces comprise the greatest fighting force the world has ever known. Throughout the annals of history, they have stood on the frontlines of freedom—risking everything to keep the light of liberty burning bright at home and around the globe. On Armed Forces Day, we honor their service. We remember their selfless sacrifices. We renew our solemn vow to them and their families, caregivers, and survivors.

Our Nation has many obligations but only one that is truly sacred: to train and equip those we send into harm's way and care for them and their families when they come home. Since I came into office, I have signed over 30 bipartisan bills to support our service members, our veterans, and their families. That includes the PACT Act—the most significant law in our Nation's history to help the millions of veterans who were exposed to toxic substances and burn pits during their military service. Further, we are working to ensure that service members and their families have access to the mental health care they need—an important step toward ending the silent scourge of suicide that has already taken too many lives.

At the same time, we are working to give service members, veterans, and their families some well-deserved breathing room. My Administration helped fix the student loan system, easing the burden of $160 billion of student debt for nearly 4.6 million Federal student loan borrowers through various actions. This year, I took the most comprehensive set of administrative actions in our Nation's history to support the economic security of military families, spouses, caregivers, and survivors. We are making it easier for military spouses to find work by making it easier for the Federal Government to hire them, encouraging employers to offer more flexible leave policies, and lowering the cost of child care for military families. Through the First Lady's Joining Forces Initiative, we are taking further action to support military and veteran spouses in finding and keeping good-paying jobs as well as health and wellness resources.

As Commander in Chief, I am committed to ensuring that every member of our military feels safe and respected—and that means ensuring inclusivity, dignity, and decency remain at the core of the culture of our Armed Forces. I am proud to have implemented historic, bipartisan reforms to our military justice system, which better protect victims and ensure prosecutorial decisions for sexual assault, domestic violence, and other crimes are fully independent from the chain of command. One of my earliest acts in office was to end the ban on transgender Americans serving openly in the military. My Administration will continue to stand up to all forms of harassment and hate within our ranks so that all our service members can thrive.

No matter how high the cost, how great the risk, or how heavy the burden—through long deployments and dangers, frequent moves and challenging trainings, and the many other unique burdens of serving our country—our Nation's Armed Forces have always met the moment. They exemplify the very best of our Nation. Today—and every day—let us honor their service, sacrifice, courage, and commitment. Let us continue to meet our sacred obligation to them and their families, caregivers, and survivors.

May God bless and protect our service members and veterans.

NOW, THEREFORE, I, JOSEPH R. BIDEN JR., President of the United States of America and Commander in Chief of the Armed Forces of the United States, continuing the precedent of my predecessors in office, do hereby proclaim the third Saturday of each May as Armed Forces Day.

I direct the Secretary of Defense, on behalf of the Army, Navy, Air Force, Marine Corps, and Space Force, and the Secretary of Homeland Security, on behalf of the Coast Guard, to plan for appropriate observances each year, with the Secretary of Defense responsible for soliciting the participation and cooperation of civil authorities and private citizens. I invite the Governors of the States, the Commonwealth of Puerto Rico, and other areas subject to the jurisdiction of the United States to provide for the observance of Armed Forces Day within their respective jurisdictions each year in an appropriate manner designed to increase public understanding and appreciation of the Armed Forces of the United States. I also invite veterans, civic leaders, and other organizations to join in the observance of Armed Forces Day each year.

Finally, I call upon all Americans to display the flag of the United States at their homes and businesses on Armed Forces Day, and I urge citizens to learn more about military service by attending and participating in the local observances of the day.

Proclamation 10585 of May 19, 2023, is hereby superseded.

IN WITNESS WHEREOF, I have hereunto set my hand this seventeenth day of May, in the year of our Lord two thousand twenty-four, and of the Independence of the United States of America the two hundred and forty-eighth.

[FR Doc. 2024-11390

Filed 5-21-24; 8:45 am]

Billing code 3395-F4-P